NATIONAL SCIENCE FOUNDATION

Notice of Permit Modification Received Under the Antarctic Conservation Act of 1978

AGENCY: National Science Foundation.

ACTION: Notice of Permit Modification Request Received under the Antarctic Conservation Act of 1978, Public Law 95-541.

SUMMARY: The National Science Foundation (NSF) is required to publish a notice of requests to modify permits issued to conduct activities regulated under the Antarctic Conservation Act of 1978. NSF has published regulations under the Antarctic Conservation Act at title 45, part 670 of the Code of Federal Regulations. This is the required notice of a requested permit modification.

DATES: Interested parties are invited to submit written data, comments, or views with respect to this permit application by October 26, 2015. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2015-001) to Dr. Robert Pitman on November 7, 2014. The issued permit allows the applicant to take and import tissue samples from various marine mammal species; tag them with satellite or suction cup tags; take photographs; and salvage dead birds or mammals for research purposes.

Now the applicant proposes a modification to the permit to extend the permit's duration, which had expired on June 30, 2015, and to include the use of Unmanned Aerial Systems (UASs) for photography, in order to make it consistent with and correspond to their Marine Mammal Protection Act permit (14097-06), which was recently extended and updated to include the aforementioned activity. The applicant would use utilize a remotely operated UAS (Unmanned Aerial System) equipped with a small high resolution camera to fly and take pictures at altitudes of 90-180 ft above the following species: killer whales (≤600 individuals), humpback whales (≤100 individuals), and Antarctic minke whales (≤100 individuals). The applicant wants to collect morphological data on the 4 types of killer whales to assist with taxonomic studies; identify prey species for small type B killer whales; and assess fitness in minke and humpback whales to provide baseline data for assessing the impact of krill fisheries on whale stocks in the Antarctic Peninsula area. The applicant has successfully deployed the equipment array over 200 times in various environments without wildlife disturbance.

Location: Southern Ross Sea, Antarctic Peninsula, and various other location around the continent as opportunities become available via private tour operator.

Dates: November 30, 2015-June 30, 2016.

Nadene G. Kennedy,
Polar Coordination Specialist, Division of Polar Programs.

[FR Doc. 2015-24308 Filed 9-24-15; 8:45 am]

BILLING CODE 7555-01-P